DEPARTMENT OF ENERGY

Office of Energy Efficiency and Renewable Energy

Notice of Fuel Cell Pre-Solicitation Workshop

AGENCY: Office of Energy Efficiency and Renewable Energy, DOE.

ACTION: Notice of Fuel Cell Pre-Solicitation Workshop.

SUMMARY: The Fuel Cell Technologies Program, under the DOE Office of Energy Efficiency and Renewable Energy, is inviting the fuel cell research community and other stakeholders to participate in a discussion of the most relevant research, development, and demonstration topics in fuel cells and fuel cell systems appropriate for government funding in stationary and transportation applications as well as cross-cutting stack and balance of plant component technology. Input from workshop participants will be used to assist in the development of a planned Fuel Cell Funding Opportunity Announcement (FOA) with awards anticipated in Fiscal Year (FY) 2011.

DATES: Pre-Solicitation Workshop to be held March 16, 2010, from 12:30 p.m.-5:30 p.m. MST and March 17, 2010, from 8:30 a.m.-3:30 p.m. MST.

ADDRESSES: The Pre-Solicitation Workshop will be held at the Sheraton Denver West Hotel, 360 Union Blvd., Lakewood, CO 80229.

FOR FURTHER INFORMATION CONTACT: Greg Kleen, Project Officer, via e-mail at greg.kleen@go.doe.gov. Further information on DOE's Fuel Cell Technologies Program can be viewed at http://www.hydrogen.energy.gov/.

SUPPLEMENTARY INFORMATION: During the Pre-Solicitation Workshop, DOE will have several presentations about the status of technologies for fuel cells and fuel cell systems in transporation and stationary applications. Workshop attendees will participate in breakout sessions where questions and comments will be solicited for suggestions about the research, development, and demonstration areas that should be included in the FOA. DOE intends to release the FOA around June of 2010, with awards to be made in FY2011.

Issued in Golden, CO, on March 5, 2010.
Michael A. Schledorn,
Acting Division Director, Renewable Energy Financial Assistance, Golden Field Office.

[FR Doc. 2010-5422 Filed 3-11-10; 8:45 am]

BILLING CODE 6450-01-P